FEDERAL COMMUNICATIONS COMMISSION

47 CFR Part 2

[ET Docket Nos. 00-258 and 95-18, IB Docket No. 99-81; DA 01-2313]

Introduction of New Advanced Mobile and Fixed Terrestrial Wireless Services; Use of Frequencies Below 3 GHz

AGENCY: Federal Communications Commission.

ACTION: Proposed rule; extension of comment period.

SUMMARY: In this document, the Commission extends the period for comment and reply comment in the proceeding that was initiated to explore the possible use of frequency bands below 3 GHz to support the introduction of new advanced mobile and fixed terrestrial wireless services (advanced wireless services) including third generation (3G) and future generations of wireless systems. The Commission extends the period for comment at the request of the Cellular Telecommunications & Internet Association (CTIA) in order to allow sufficient time to establish the most complete and well-delivered record possible on which to base an ultimate decision.

DATES: Comments are due on or before October 19, 2001, and Reply Comments are due on or before November 5, 2001.

ADDRESSES: Send comments and reply comments to the Office of the Secretary, Federal Communications Commission, Washington, DC 20554.

FOR FURTHER INFORMATION CONTACT: John Spencer, 202-418-1310.

SUPPLEMENTARY INFORMATION: This is a summary of the Order Extending Comment Period in ET Docket Nos. 00-258 and 95-18, and IB Docket No. 99-81, DA 01-2313, adopted October 4, 2001, and released October 4, 2001. The complete text of this Order is available for inspection and copying during normal business hours in the FCC Reference Information Center, Courtyard Level, 445 12th Street, SW., Washington, DC, and also may be purchased from the Commission's copy contractor, Qualex International, Portals II, 445 12th Street, SW., Room CY-B402, Washington, DC 20554.

1. The Commission extends the comment period established in the Further Notice of Proposed Rulemaking in this proceeding (66 FR 47618, September 13, 2001) from October 11, 2001, to October 19, 2001, and the reply comment period from October 23, 2001, to November 5, 2001.

Ordering Clause

2. The request of CTIA to extend the deadline for filing comments in this proceeding, filed September 25, 2001, is granted to the extent indicated, pursuant to § 1.46 of the Commission's rules, 47 CFR 1.46.

Federal Communications Commission.
Kathleen O'Brien Ham,
Deputy Chief, Wireless Telecommunications Bureau.

[FR Doc. 01-25640 Filed 10-10-01; 8:45 am]

BILLING CODE 6712-01-P